DEPARTMENT OF COMMERCE

International Trade Administration

President's Export Council: Meeting of the President's Export Council

AGENCY: International Trade Administration, U.S. Department of Commerce.

ACTION: Notice of an open meeting.

SUMMARY: The President's Export Council will hold a meeting to discuss topics related to the National Export Initiative, and to provide advice regarding how to promote U.S. exports, jobs, and growth.

DATES: December 9, 2010 at 9 a.m. (EST).

ADDRESSES: The President's Export Council will convene its next meeting via live webcast on the Internet at http://whitehouse.gov/live.

FOR FURTHER INFORMATION CONTACT: J. Marc Chittum, President's Export Council, Room 4043, 1401 Constitution Avenue, NW., Washington, DC 20230, telephone: 202-482-1124, e-mail: Marc.Chittum@trade.gov.

SUPPLEMENTARY INFORMATION: Background: The President's Export Council was first established by Executive Order on December 20, 1973 to advise the President on matters relating to U.S. export trade and report to the President on its activities and on its recommendations for expanding U.S. exports. The President's Export Council was renewed most recently by Executive Order 13511 of September 29, 2009, for the two-year period ending September 30, 2011.

Public Submissions: The public is invited to submit written statements to the President's Export Council by C.O.B. December 2, 2010 by either of the following methods:

Electronic Statements

Send electronic statements to the President's Export Council Web site at http://trade.gov/pec/peccomments.asp; or

Paper Statements

Send paper statements to J. Marc Chittum, President's Export Council, Room 4043, 1401 Constitution Avenue, NW., Washington, DC 20230.

All statements will be posted on the President's Export Council Web site (http://trade.pec/peccomments.asp) without change, including any business or personal information provided such as names, addresses, e-mail addresses, or telephone numbers. All statements received, including attachments and other supporting materials, are part of the public record and subject to public disclosure. You should submit only information that you wish to make available publicly.

Meeting minutes: Copies of the Council's meeting minutes will be available within 90 days of the meeting.

Dated: November 15, 2010.
J. Marc Chittum,
Executive Secretary, President's Export Council.

[FR Doc. 2010-29272 Filed 11-16-10; 4:15 pm]

BILLING CODE 3510-DR-P